DEPARTMENT OF ENERGY

Federal Energy Regulatory Commission

[Project No. P-13272-004]

Old Harbor Hydroelectric Project; Notice of Meetings

The Commission has scheduled a teleconference with representatives of the Alutiiq Tribe and Old Harbor Native Cooperation involving the Old Harbor Hydroelectric Project (Project No. 13272). The meeting will be held on June 26, 2015 at 2:00 p.m. (EDT; 10:00 a.m. AKDT).

Members of the public and intervenors in the referenced proceedings may participate in the meeting; however, participation will be limited to tribal representatives and the Commission representatives. If the Tribes decide to disclose information about a specific location which could create a risk or harm to an archeological site or Native American cultural resource, the public will be excused for that portion of the meeting when such information is disclosed.¹

¹ Protection from public disclosure involving this kind of specific information is based upon 18 CFR 4.32(b)(3)(ii) of the Commission's regulations.

If you plan to attend the meeting, please contact Dr. Frank Winchell at the Federal Energy Regulatory Commission for call-in information. He can be reached at 202-502-6104 or frank.winchell@ferc.gov.

Dated: June 11, 2015.
Kimberly D. Bose,
Secretary.

[FR Doc. 2015-14874 Filed 6-16-15; 8:45 am]

BILLING CODE 6717-01-P